FEDERAL COMMUNICATIONS COMMISSION

47 CFR Part 73

[DA 02-1916, MB Docket No. 02-75, RM-10151]

Digital Television Broadcast Service; Lynchburg, VA

AGENCY: Federal Communications Commission.

ACTION: Final rule.

SUMMARY: The Commission, at the request of WSET, Inc., licensee of station WSET-TV, NTSC channel 13, Lynchburg, Virginia, substitutes DTV channel 34 for DTV channel 56 at Lynchburg. See 67 FR 17041, April 9, 2002. DTV channel 34 can be allotted to Lynchburg in compliance with the principle community coverage requirements of Section 73.625(a) at reference coordinates 37-18-52 N. and 79-38-04 W. with a power of 660, HAAT of 625 meters and with a DTV service population of 1048 thousand. With this action, this proceeding is terminated.

DATES: Effective September 23, 2002.

FOR FURTHER INFORMATION CONTACT: Pam Blumenthal, Media Bureau, (202) 418-1600.

SUPPLEMENTARY INFORMATION: This is a synopsis of the Commission's Report and Order, MB Docket No. 02-75, adopted August 2, 2002, and released August 9, 2002. The full text of this document is available for public inspection and copying during regular business hours in the FCC Reference Information Center, Portals II, 445 12th Street, S.W., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Virginia, is amended by removing DTV channel 56 and adding DTV channel 34 at Lynchburg.

Federal Communications Commission.
Barbara A. Kreisman,
Chief, Video Division, Media Bureau.

[FR Doc. 02-20601 Filed 8-13-02; 8:45 am]

BILLING CODE 6712-01-P